DEPARTMENT OF COMMERCE

Foreign-Trade Zones Board

[B-62-2016]

Foreign-Trade Zone (FTZ) 20—Newport News, Virginia; Authorization of Production Activity; Canon Virginia, Inc.; Subzone 20D (Toner Cartridges); Newport News, Virginia

On September 2, 2016, Canon Virgina, Inc., submitted a notification of proposed production activity to the Foreign-Trade Zones (FTZ) Board for its facility within Subzone 20D, in Newport News, Virginia.

The notification was processed in accordance with the regulations of the FTZ Board (15 CFR part 400), including notice in the Federal Register inviting public comment (81 FR 64870, September 21, 2016). The FTZ Board has determined that no further review of the activity is warranted at this time. The production activity described in the notification is authorized, subject to the FTZ Act and the Board's regulations, including Section 400.14.

Dated: January 3, 2017.
Andrew McGilvray,
Executive Secretary.

[FR Doc. 2017-00147 Filed 1-6-17; 8:45 am]

BILLING CODE 3510-DS-P